DEPARTMENT OF ENERGY

10 CFR Part 430

[Docket No. EERE-2011-BT-STD-0043]

RIN 1904-AC51

Energy Efficiency Program for Residential Products: Energy Conservation Standards for Miscellaneous Refrigeration Products

AGENCY: Office of Energy Efficiency and Renewable Energy, Department of Energy.

ACTION: Reopening of public comment period.

SUMMARY: The U.S. Department of Energy (DOE) has published a preliminary technical support document (TSD) that analyzes the potential economic impacts and energy savings that could result from potential energy conservation standards for miscellaneous refrigeration products. DOE published this analysis so stakeholders can review the relevant outputs and the underlining assumptions and calculations. After receiving a request for additional time to comment on the TSD, the comment period for the TSD pertaining to the energy conservation standards for miscellaneous refrigeration products is reopened until March 2, 2015.

DATES: The comment period for the TSD pertaining to energy conservation standards for miscellaneous refrigeration products is reopened until March 2, 2015.

ADDRESSES: Interested persons may submit comments, identified by docket number EERE-2011-BT-STD-0043 and/or Regulation Identification Number (RIN) 1904-AC51, by any of the following methods:

• Federal eRulemaking Portal: http://www.regulations.gov. Follow the instructions for submitting comments.

• Email: WineChillers-2011-STD-0043@ee.doe.gov. Include the docket number EERE-2011-BT-STD-0043 and/or RIN 1904-AC51 in the subject line of the message.

• Mail: Ms. Brenda Edwards, U.S. Department of Energy, Building Technologies Program, Mailstop EE-5B, 1000 Independence Avenue SW., Washington, DC 20585-0121. If possible, please submit all items on a compact disc (CD), in which case it is not necessary to include printed copies. [Please note that comments and CDs sent by mail are often delayed and may be damaged by mail screening processes.]

• Hand Delivery/Courier: Ms. Brenda Edwards, U.S. Department of Energy, Building Technologies Program, 950 L'Enfant Plaza SW., Suite 600, Washington, DC 20024. Telephone (202) 586-2945. If possible, please submit all items on CD, in which case it is not necessary to include printed copies.

Docket: The docket is available for review at www.regulations.gov, including Federal Register notices, public meeting attendee lists and transcripts, comments, and other supporting documents/materials. All documents in the docket are listed in the www.regulations.gov index. However, not all documents listed in the index may be publicly available, such as information that is exempt from public disclosure. The rulemaking Web page can be found at: http://www1.eere.energy.gov/buildings/appliance_standards/rulemaking.aspx/ruleid/71. This Web page contains a link to the docket for this notice on the regulation.gov site. The www.regulations.gov Web page contains instructions on how to access all documents in the docket, including public comments.

FOR FURTHER INFORMATION CONTACT: Mr. Joseph Hagerman, U.S. Department of Energy, Building Technologies Office, Mailstop EE-5B, 1000 Independence Avenue SW., Washington, DC 20585-0121. Email: refrigerators_and_freezers@EE.Doe.Gov.

In the Office of the General Counsel, contact Mr. Michael Kido, U.S. Department of Energy, Office of the General Counsel, GC-33, 1000 Independence Avenue SW., Washington, DC 20585-0121. Telephone: (202) 586-8145. Email: Michael.Kido@hq.doe.gov.

For further information on how to submit a comment and review other public comments and the docket, contact Ms. Brenda Edwards at (202) 586-2945 or by email: Brenda.Edwards@ee.doe.gov.

SUPPLEMENTARY INFORMATION: DOE published a notice of public meeting and availability of the preliminary technical support document in the Federal Register to make available and invite comments on its preliminary analysis regarding energy conservation standards for miscellaneous refrigeration products. 79 FR 71705 (December 3, 2014) The notice provided for the written submission of comments by February 2, 2015. Thereafter, the Association of Home Appliance Manufacturers (AHAM) requested an extension of the public comment period. AHAM stated that additional time is necessary to review the published analysis in order to prepare and submit comments. DOE has determined that reopening the comment period to allow additional time for interested parties to submit comments is appropriate based on the foregoing reason. DOE believes that re-opening the comment period will provide the public with sufficient time to submit comments responding to DOE's preliminary analysis. Accordingly, DOE will consider any comments received by midnight of March 2, 2015, and deems any comments received by that time to be timely submitted.

Issued in Washington, DC, on February 3, 2015.
Kathleen B. Hogan,
Deputy Assistant Secretary for Energy Efficiency, Energy Efficiency and Renewable Energy.

[FR Doc. 2015-02843 Filed 2-10-15; 8:45 am]

BILLING CODE 6450-01-P